DEPARTMENT OF EDUCATION

[Docket No.: ED-2013-ICCD-0126]

Agency Information Collection Activities; Submission to the Office of Management and Budget for Review and Approval; Comment Request; Alternative Student Outcomes for Growth Measures Case Studies

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before January 15, 2014.

ADDRESSES: Comments submitted in response to this notice should be submitted electronically through the Federal eRulemaking Portal at http://www.regulations.gov by selecting Docket ID number ED-2013-ICCD-0126 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E103, Washington, DC 20202-4537.

FOR FURTHER INFORMATION CONTACT: For questions related to collection activities or burden, please call Kathy Axt, 540-776-7742 or electronically mail ICDocketMgr@ed.gov. Please do not send comments here. We will ONLY accept comments in this mailbox when the regulations.gov site is not available to the public for any reason.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Alternative Student Outcomes for Growth Measures Case Studies.

OMB Control Number: 1850-NEW.

Type of Review: New collection.

Respondents/Affected Public: Individuals or households.

Total Estimated Number of Annual Responses: 182.

Total Estimated Number of Annual Burden Hours: 364.

Abstract: This submission is a request for approval of data collection activities that will be used to support the Mid-Atlantic Regional Educational Laboratory (REL) Alternative Student Outcomes for Growth Measures Case Studies. The study is being funded by the Institute of Education Sciences (IES) U.S. Department of Education and is being implemented by ICF International and its subcontractor, Mathematica Policy Research. This submission requests approval to recruit districts for the study and conduct in person and telephone interviews with staff in participating districts.

This study aims to fill the gap in information available to districts and policymakers on measures of student growth that do not use state standardized tests via qualitative case studies of up to nine districts that are using alternative measures of student achievement growth in teacher performance ratings. The studies will address what alternative measures of student achievement growth in teacher performance ratings. The case studies will address what alternative outcome measures are used, how the alternative growth measures are implemented, challenges and obstacles in implementation, how the measures are being used. Where possible, the Department will examine the extent of differentiation produced by the measures—specifically, the distribution of teacher performance on the measures, as compared with the distribution of teacher performance on conventional value added measures that are based on state assessments. The Department will conduct semi-structured interviews with district administrators leading teacher evaluation or effectiveness efforts, teacher representatives (such as union leaders), teachers (including both classroom teachers and instructional coaches), and principals. The data collected will be summarized and analyzed using a case study approach.

Kate Mullan,
Acting Director, Information Collection Clearance Division, Privacy, Information and Records Management Services, Office of Management.

[FR Doc. 2013-29768 Filed 12-13-13; 8:45 am]

BILLING CODE 4000-01-P